DEPARTMENT OF TRANSPORTATION

Office of the Secretary

[Docket No. DOT-OST-2024-0083]

Senior Executive Service Performance Review Board Membership

AGENCY: Office of the Secretary, Department of Transportation (DOT).

ACTION: Notice of Performance Review Board (PRB) appointments.

SUMMARY: DOT published the names of the persons selected to serve on Departmental PRBs.

FOR FURTHER INFORMATION CONTACT: Anne B. Audet, Director, Departmental Office of Human Resource Management (202) 366-2478.

SUPPLEMENTARY INFORMATION: The persons named below may be selected to serve on one or more Departmental PRBs.

(Authority: 5 U.S.C. 4314(c)(4))

Issued in Washington, DC, on August 1, 2024.
Anne B. Audet,
Director, Departmental Office of Human Resource Management.

DEPARTMENT OF TRANSPORTATION

FEDERAL HIGHWAY ADMINISTRATION

ALONZI, ACHILLE

ARNOLD, ROBERT E

BAKER, SHANA V

BENJAMIN, RANDALL KEITH II

BEZIO, BRIAN R

BIONDI, EMILY CHRISTINE

BRIGGS, VALERIE ANNETTE

BURROWS, SHAY K

BUTLER, JENNIFER AYANNA

CHIN, ARTHUR ANDREW

CHRISTIAN, JAMES C

CRONIN, BRIAN P

CURTIS, STEPHANIE

EVANS, MONIQUE REDWINE

FINFROCK, ARLAN E JR

FLEURY, NICOLLE M

FOUCH, BRIAN J

HARTMANN, JOSEPH L

HOGGE, BRIAN R.

HUGHES, CAITLIN GWYNNE

JENSEN, GARY ALAN

KALLA, HARI

KEHRLI, MARK R

KNOPP, MARTIN C

KONOVE, ELISSA K

LEWIS, DAVID A

MARQUIS, RICHARD J

MARSHALL, DANA R

MCLAURY, KEVIN L

NEHME, JEAN ANTOINE

NELSON, THOMAS L JR.

NESBITT, MICHAEL D

PETTY, KENNETH II

REGAL, GERALDINE K

RICHARDSON, CHRISTOPHER STEVEN

RICO, IRENE

RITTER, ROBERT G

RUSNAK, ALLISON B

SANTIAGO, DAMARIS

SCHAFTLEIN, SHARI M

SHAFFER, RHONDA C

SHEPHERD, GLORIA MORGAN

SIDDIQI, BASHARAT

SOSA, MAYELA

STEPHANOS, PETER J

THORNTON, NICHOLAS R

WHITE, KRISTIN RAE

WILNER, MARCUS D

WINTER, DAVID R

WRIGHT, LESLIE JANICE

FEDERAL MOTOR CARRIER SAFETY ADMINISTRATION

BECK, VALERIE S

FROMM, CHARLES J

HERNANDEZ, SCOTT

HUG, CARRIE A

KEANE, THOMAS P

KELLY, TAFT D

LAWLESS, SUE

LENFERT, WINSOME A

LIBERANTE, WENDY LOUISE

LIBERATORE, THOMAS JOSEPH

MINOR, LARRY W

NEMONS, PATRICK D

PIDUGU, PAVANKUMAR

RIDDLE, KENNETH H.

RUBAN, DARRELL L

STEELE, GEORGIA SHARLENE

THOMAS, PHILIP WALTER III

WHITE, VINCENT GERARD JR.

FEDERAL RAILROAD ADMINISTRATION

ALEXY, JOHN KARL

ALLAHYAR, MARYAM

DAVIS, HAKIM R

DYER, WILLIAM PATRICK

FULTZ, ALLISON ISHIHARA

GARLAND, JAMES JASON

GLUCK, STUART MURRAY

HAYWARD-WILLIAMS, CAROLYN R

KOUL, NEERAJ

LESTINGI, MICHAEL W.

LONG, MICHAEL T

LONGLEY, MICHAEL M

MITCHELL, JENNIFER LOUISE

NISSENBAUM, PAUL

OSTERHUES, MARLYS A

PATTERSON, MARK A

RENNERT, JAMIE P.

REYES-ALICEA, REBECCA

RIGGS, TAMELA LYNN

VAN NOSTRAND, CHRISTOPHER S

FEDERAL TRANSIT ADMINISTRATION

ALLEN, REGINALD E

BROOKINS, KELLEY

BUTLER, PETER S

CULOTTA, MICHAEL L

DALTON-KUMINS, SELENE FAER

DELORENZO, JOSEPH P

FERRONI, MARK A

FLETCHER, SUSAN K

GARCIA CREWS, THERESA

IYER, SUBASH SUBRAMANIAN

KOHLER, THERESA JANE

LEARY, MARY A

LYSSY, GAIL C

NIFOSI, DANA C.

PFISTER, JAMIE DURHAM

ROBINSON, BRUCE A

TAYLOR, YVETTE G

TELLIS, RAYMOND S

TERWILLIGER, CINDY E

VANTERPOOL, VERONICA MARIA

WELBES, MATTHEW J

MARITIME ADMINISTRATION

BECKETT, COREY ANDREW

DAVIS, DELIA P

DUNLAP, SUSAN LYNN

HARRINGTON, DOUGLAS M

HELLER, DAVID M

KAMMERER, GREGORY LOUIS

KUMAR, SHASHI N

LEWIS, JEFFREY HARDIN

NUNAN, JOANNA MARIE

PAAPE, WILLIAM

SIMMONS-HEALY, MELINDA B

WHERRY REESE FLACK, TAMEKIA ADEL

WULF, DAVID MATTHEW

NATIONAL HIGHWAY TRAFFIC SAFETY ADMINISTRATION

BAUMANN, ROLAND T III

BLINCOE, LAWRENCE J

CHEN, CHOU-LIN

CLAYTON, SEAN METRICE

DANIELSON, JACK H.

DOHERTY, JANE H

DOLAS, RAJEEV K

DONALDSON, K JOHN

GATTI, JONATHAN D

HATIPOGLU, CEM

HINES, DAVID M

JOHNSON, TIM J

KOLODZIEJ, KERRY E

KREEB, ROBERT M

MARSHALL, JOHN W

MATHEKE, OTTO G III

POSTEN, RAYMOND R

RAVIV, ADAM MICHAEL

SAUERS, BARBARA F

SHULMAN, SOPHIE MIKHAL

SOMMERS, TERRENCE

SRINIVASAN, NANDA N

SULLIVAN, EILEEN FALLON

SUMMERS, LORI K

TERRY, JANE SAMILLE

TOPKA, TANYA L

VALLESE, JULIETTE M.

OFFICE OF THE SECRETARY OF TRANSPORTATION

ABRAHAM, JULIE

ALBRIGHT, JACK G

ALEXANDER, FELICIA LANISE

AUDET, ANNE H

AUGUSTINE, JOHN E

AYLWARD, ANNE D

BAKER, SARAH ELIZABETH

BARABAN, CINDY A

BERRY ROBERSON, ANGELA YVETTE

CALLENDER, DUANE A

CARLILE, SAESHA LYNN

CARLSON, TERENCE W

CASTRO, BRIAN MATTHEW

COGGINS, COLLEEN P

COHEN, DANIEL

DANE CAMDEN, ALLISON LEE

DOUGHERTY, BARBARA KAYE

FARAJIAN, MORTEZA

FISCHER, KARA LYNN

FLEMING, GREGG G

FUNK, JENNIFER S

GARRO, KERRY ELIZABETH

GEIER, PAUL M

GIORGIS, JOHN D

GOLDSTEIN, SCOTT ROSS

HALLE, MICHAEL MACKAY

HAMPSHIRE, ROBERT CORNELIUS

HOMAN, TODD M

HOWARD, JENNIFER MARGUERITE

HU, PATRICIA S.

HUBBARD, RHEA ANN

HUYNH, JULI C

IRVINE, PETER D

JACKSON, RONALD A

JARRIN, JOSEPH HUMPHREY

KALETA, JUDITH S

KING, DANIEL E.

LANG, JAMES M.

LAWRENCE, CHRISTINE A

LEFEVRE, MARIA S.

LOHRENZ, MAURA C

MARCHESE, APRIL LYNN

MARION, IRENE BIANCA

MARTIN, HAROLD W III

MCBETH, VERONICA PERRY

MCCARTNEY, ERIN P

MCNAMARA, PHILIP ADAM

MIDDLETON, GARY LEE

MORGAN, DANIEL S.

O'BERRY, DONNA

ORNDORFF, ANDREW R

PAIEWONSKY, LUISA M

POPKIN, STEPHEN M

REDUS, TYRA LATRICE

SCHACHTER, CORDELL

SCHMITT, ROLF R

SHEIKH IBRAHIM, FIRAS

SHEPARD, DESHAWN MONIQUE

SHIKANY, ANN MARIE

SIMPSON, JOAN

STANSBURY, BRIAN THOMAS

SUSSMAN, SABRINA SANAM

SWAFFORD, LISA ANN

SWITZER, MARCUS JEREMY

SYED, MOHSIN RAZA

SZAKAL, KEITH J

SZATMARY, RONALD ALLEN JR

TAYLOR, BENJAMIN J

TIMOTHY, DARREN P

URE, DEVIN L.

WADE, LUCINDA A.

WALKER, JONATHAN B

WASHINGTON, KEITH E

WORKIE, BLANE A

WRIGHT, KALA SADIQ

ZIFF, LAURA M

ZIMMERMAN, MARIIA VICARIUS

PIPELINE AND HAZARDOUS MATERIALS SAFETY ADMINISTRATION

BROWN, TRISTAN HILTON

CHAVEZ, RICHARD M.

DAUGHERTY, LINDA

DAVIS, CAREY THOMAS

FARLEY, AUDREY L.

HARR, TRICIA M

MAYBERRY, ALAN K

MCMILLAN, HOWARD W

QUADE, WILLIAM A III

SCHOONOVER, WILLIAM S

TAHAMTANI, MASSOUD

TSAGANOS, VASILIKI B

GREAT LAKES ST. LAWRENCE SEAWAY DEVELOPMENT CORPORATION

FISHER, ANTHONY JR

LAVIGNE, CARRIE LYNN

O'MALLEY, KEVIN P

SCHARF, JEFFREY W

[FR Doc. 2024-17391 Filed 8-6-24; 8:45 am]

BILLING CODE 4910-9X-P